DEPARTMENT OF HOMELAND SECURITY

[Docket No. DHS-2008-0041]

National Protection and Programs Directorate; the Critical Infrastructure Partnership Advisory Council (CIPAC) Quarterly Update

AGENCY: National Protection and Programs Directorate, DHS.

ACTION: Update of CIPAC council membership.

SUMMARY: The Department of Homeland Security (DHS) announced the establishment of the Critical Infrastructure Partnership Advisory Council (CIPAC) by notice published in the Federal Register on March 24, 2006. See 71 FR 14930. That notice identified the purpose of CIPAC as well as its membership. This notice provides (i) a brief description of the CIPAC purpose, composition, and structure; (ii) notice of the Secretary's renewal of the CIPAC Charter; and (iii) instructions for obtaining the CIPAC membership roster and other information on the Council and its activities.

FOR FURTHER INFORMATION CONTACT: Carlos Kizzee, Deputy Director, Partnership Programs and Information Sharing Office, Partnership and Outreach Division, Office of Infrastructure Protection, National Protection and Programs Directorate, United States Department of Homeland Security, Washington, DC 20528, telephone (703) 235-3635 or via e-mail at carlos.kizzee@dhs.gov.

Responsible DHS Official: Nancy J. Wong, Director Partnership Programs and Information Sharing Office, Partnership and Outreach Division, Office of Infrastructure Protection, National Protection and Programs Directorate, United States Department of Homeland Security, Washington, DC 20528, telephone (703) 235-3667 or via e-mail at nancy.wong@dhs.gov.

SUPPLEMENTARY INFORMATION: Purpose and Activities: CIPAC facilitates interaction between government officials and representatives of the community of owners and/or operators for each of the critical infrastructure or key resource (CIKR) sectors defined by Homeland Security Presidential Directive 7 (HSPD-7) and identified in the National Infrastructure Protection Plan (NIPP). The scope of activities covered by CIPAC includes planning; coordinating among government and CIKR owner/operator security partners; implementing security program initiatives; conducting operational activities related to critical infrastructure protection security measures, incident response, recovery, infrastructure resilience, reconstituting CIKR assets and systems for both man-made as well as naturally occurring events; and sharing threat, vulnerability, risk mitigation, and infrastructure continuity information and best practices.

Organizational Structure: CIPAC members are organized into the seventeen HSPD-7 critical infrastructure and/or key resource sectors. Additionally, on March 3, 2008, pursuant to authority defined by HSPD-7 which directs DHS to “evaluate the need for and coordinate the coverage of additional critical infrastructure and key resources categories over time, as appropriate,” and, section 201(d)(5) of the Homeland Security Act [6 U.S.C 121(d)(5)], which directs the Secretary of Homeland Security “to develop a comprehensive national plan for securing the key resources and critical infrastructure of the United States,” the Secretary of Homeland Security recognized an additional sector; the Critical Manufacturing sector.

Within all of the sectors containing private sector CIKR owners/operators there generally exists a Sector Coordinating Council (SCC) that includes CIKR owners and/or operators or their representative trade associations. Each of the sectors also has a Government Coordinating Council (GCC) whose membership includes a lead Federal agency that is defined as the Sector Specific Agency (SSA), and all of the relevant Federal, State, local, Tribal, and/or Territorial government agencies (or their representative bodies) whose mission interests also involve the scope of the CIPAC activities for that particular sector.

Membership: CIPAC Membership includes (i) CIKR owner and/or operator members of an SCC; (ii) trade association members representing the interests of CIKR owners and/or operators that own and invest in infrastructure assets or in the systems and processes to secure them, or representing CIKR owners and/or operators whom are held responsible by the public for CIKR operations and the response and recovery when their CIKR assets and systems are disrupted who are members of an SCC; (iii) each sector's Government Coordinating Council (GCC); and, based upon DHS' recent establishment of this council; (iv) State, local, Tribal, and Territorial governmental officials comprising the DHS State, Local, Tribal, Territorial GCC.

Notice of CIPAC Renewal: On March 20, 2008 the Secretary of Homeland Security extended CIPAC for a period of two years. The current CIPAC Charter reflecting the Secretary's action is available on the CIPAC Web site. The CIPAC Charter also reflects the Secretary's designation of the Critical Manufacturing Sector as the newest addition to the CIKR Sector Partnership in the NIPP partnership framework.

CIPAC Membership Roster and Council Information: The current roster of CIPAC membership is published on the CIPAC Web site (http://www.dhs.gov/cipac). That Web site is updated as the CIPAC membership changes. Members of the public may visit the CIPAC Web site at any time to obtain information on CIPAC membership as well as a record of CIPAC meetings and events.

Dated: April 11, 2008.
Nancy Wong,
Designated Federal Officer for the CIPAC.

[FR Doc. E8-9420 Filed 4-29-08; 8:45 am]

BILLING CODE 4410-10-P